DEPARTMENT OF TRANSPORTATION

Federal Motor Carrier Safety Administration

[Docket No. FMCSA-2007-28945]

Medical Review Board Public Meeting

AGENCY: Federal Motor Carrier Safety Administration (FMCSA) United States Department of Transportation (DOT).

ACTION: Notice of Medical Review Board (MRB) Public Meeting.

SUMMARY: FMCSA announces that the MRB will hold its next meeting on October 15, 2007. The meeting will provide the public an opportunity to observe and participate in MRB deliberations about the revision and development of Federal Motor Carrier Safety Regulation (FMCSR) medical standards, in accordance with the Federal Advisory Committee Act (FACA).

DATES: The MRB meeting will be held from 8 a.m.-11:30 p.m. on October 15, 2007. Please note the preliminary agenda for this meeting in the SUPPLEMENTARY INFORMATION section of this notice for specific information.

ADDRESSES: The meeting will take place at the U.S. Department of Transportation, 1200 New Jersey Avenue, SE., West Building, Ground Floor, Oklahoma Room, Washington, DC 20590-0001. The public must enter through the west entrance and comply with building security procedures, including provision of appropriate identification prior to being accompanied by a Federal employee to the meeting room. You may submit comments identified by DOT Docket Management System (DMS) Docket Number FMCSA-2007-28945 using any of the following methods:

• Web Site: http://dmses.dot.gov/submit. Follow the instructions for submitting comments on the DOT electronic docket site.

• Fax: 1-202-493-2251.

• Mail: Docket Management Facility; U.S. Department of Transportation, 1200 New Jersey Avenue, SE., West Building, Ground Floor, Room W12-140, Washington, DC 20590-0001.

• Hand Delivery: Room W12-140 on the ground level of the West Building, 1200 New Jersey Avenue, SE., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room W12-140 on the ground level of the West Building, 1200 New Jersey Avenue, SE., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the U.S. Department of Transportation's complete Privacy Act Statement in the Federal Register published on April 11, 2000 (65 FR 19477; April 11, 2000). This information is also available at http://dms.dot.gov.

FOR FURTHER INFORMATION CONTACT: Dr. Mary D. Gunnels, Chief, Physical Qualifications Division, 202-366-4001.

Information on Services for Individuals With Disabilities:

For information on facilities or services for individuals with disabilities or to request special assistance at the meeting, contact Kaye Kirby at 202-366-4001.

SUPPLEMENTARY INFORMATION: The preliminary agenda for the meeting includes:

0800-0805 Call to Order, Introduction and Agenda Review

0805-0830 MRB Business, Action Items, Neurological Diseases Part I (Seizure Disorders), Sleep Disorders

0830-0900 Expert Panel Recommendations (Invited Speaker)

0900-0945 Deliberations on Evidence Report and Panel Comments

0945-1015 MRB Questions, Other Medical Topics

1015-1130 Public Comment Period

1130 Adjourn

Breaks will be announced on meeting day and may be adjusted according to schedule changes, and other meeting requirements.

Background

The U.S. Secretary of Transportation announced on March 7, 2006, the five medical experts who serve on FMCSA's MRB. Section 4116 of the Safe, Accountable, Flexible, Efficient Transportation Equity Act: A Legacy for Users (SAFETEA-LU, Pub. L. 109-59) requires the Secretary of Transportation with the advice of the MRB to “establish, review, and revise medical standards for operators of Commercial Motor Vehicles (CMVs) that will ensure that the physical condition of operators is adequate to enable them to operate the vehicles safely.” FMCSA is planning updates to the physical qualification regulations of CMV drivers, and the MRB will provide the necessary science-based guidance to establish realistic and responsible medical standards.

The MRB operates in accordance with the Federal Advisory Committee Act (FACA) as announced in the Federal Register (70 FR 57642, October 3, 2005). The MRB is charged initially with the review of all current FMCSA medical standards (49 CFR 391.41), as well as proposing new science-based standards and guidelines to ensure that drivers operating CMVs in interstate commerce, as defined in CFR 390.5, are physically capable of doing so.

Meeting Participation

Attendance is open to the interested public, including medical examiners, motor carriers, drivers, and representatives of medical and scientific associations. Written comments for this MRB meeting will also be accepted beginning on August 14, 2007 and continuing until October 30, 2007, and should include the docket number that is listed in the ADDRESSES section.

During the MRB meeting, oral comments will be accepted on a first come, first serve basis as requestors register at the meeting, but may be limited depending on how many persons wish to comment. The comments must directly address relevant medical and scientific issues on the MRB meeting agenda. For more information, please view the following Web site: http:// www.mrb.fmcsa.dot.gov.

Issued on: August 8, 2007.
Larry W. Minor,
Associate Administrator for Policy and Program Development.

[FR Doc. E7-15838 Filed 8-13-07; 8:45 am]

BILLING CODE 4910-EX-P